DEPARTMENT OF TRANSPORTATION

Federal Aviation Administration

[Summary Notice No. PE-2000-57]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption part 11 of Title 14, Code of Federal Regulations (14 CFR), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before November 8, 2000.

ADDRESSES: Send comments on any petition in triplicate to: Federal Aviation Administration, Office of the Chief Counsel, Attn: Rule Docket (AGC-200), Petition Docket No. ___, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to sections 11.85 and 11.91 of part 11 of the Federal Aviation Regulations (14 CFR part 11).

Issued in Washington, DC, on October 13, 2000.
Donald P. Byrne,
Assistant Chief Counsel for Regulations.

Petitions for Exemption

Petitioner: Department of the Army.

[Docket No.: 24237]

Section of the 14 CFR Affected: 14 CFR §§ 91.177(a)(2) and 91.179(b)(1).

Description of Relief Sought: To permit the United States Army Special Operations Command (USASOC), 160th Special Operations Regiment (160th SOAR) to operate under Exemption No. 4371, as amended, when the 160th SOAR and the Air Force Special Operations Command (AFSOC) are conducting joint operations.

Petitioner: Experimental Aircraft Association, Small Aircraft Manufacturers Association and National Association of Flight Instructors.

[Docket No.: 29661]

Section of the 14 CFR Affected: 14 CFR § 91.319(a)(1) and (2).

Description of Relief Sought: To allow (1) the revision of Condition No. 1 to include aircraft that operate under the provisions of 14 CFR § 21.191(c), (d), and (f); (2) the revision of Condition No. 4 to include ground transition training in the required training syllabus; and (3) the addition of a new condition requiring EAA, SAMA, and NAFI members to receive permission from their appropriate association prior to conducting flight training under the conditions and imitations of Exemption No. 7162.

Petitioner: Flying Boat, Inc. dba Chalk's International Airlines and Chalk's Ocean Airways.

[Docket No.: 30161]

Section of the 14 CFR Affected: 14 CFR §§ 121.344a(f) and 135.152(k).

Description of Relief Sought: To permit Chalk to operate its Grumman G-73T Turbine Mallard (G-73T) airplane under parts 121, and 135 without the required digital flight data recorder (DFDR) until the FAA can amend §§ 121.344a(f) and 131.152(k) to permanently except the G-73T airplane from the requirements of §§ 121.344a(f) and 135.152(k).

[FR Doc. 00-26829 Filed 10-18-00; 8:45 am]

BILLING CODE 4910-13-M